DEPARTMENT OF COMMERCE

[Docket No.: 030213030-3030-01]

Office of the General Counsel; Guidelines for the Proper Consideration of Small Entities in Rulemaking

AGENCY: Office of the General Counsel, Department of Commerce.

ACTION: Notice of availability.

SUMMARY: The Department of Commerce (Department) announces the availability of its guidelines for the proper consideration of small entities in agency rulemaking pursuant to Executive Order 13272. The purpose of these guidelines is to establish procedures and policies to promote compliance with the Regulatory Flexibility Act of 1980 (RFA). These guidelines ensure that the Department properly considers the potential impacts of its rulemakings on small business, small governmental jurisdictions, and small organizations during the rulemaking process.

ADDRESSES: To obtain a copy of the Department's guidelines, please send a written request to Daniel Cohen, Chief Counsel for Regulation, Office of the Assistant General Counsel for Legislation and Regulation, U.S. Department of Commerce, 1401 Constitution Ave., Suite 5876, Washington, DC 20230, or visit the following Web site: http://www.ogc.doc.gov/ogc/legreg/regulati.htm.

FOR FURTHER INFORMATION CONTACT: For further information, please contact Tricia Choe, Attorney-Advisor, Office of the Assistant General Counsel for Legislation at (202) 482-4265.

SUPPLEMENTARY INFORMATION: On August 13, 2002, the President signed Executive Order 13272 entitled Proper Consideration of Small Entities in Agency Rulemaking. Executive Order 13272 requires federal agencies to issue policies and procedures to ensure that the potential impacts of agency rules in small businesses, small organizations, and small governmental jurisdictions are properly considered during the rulemaking process consistent with the statutory mandates of the Regulatory Flexibility Act of 1980 (RFA). See 5 U.S.C. 601 et seq. The intent of the Order is to ensure that agencies work closely with the Office of Advocacy at the Small Business Administration to address small business issues as early as possible in the regulatory process, particularly as they relate to disproportionate regulatory burden.

Pursuant to the requirements of the Order, the Department of Commerce prepared guidelines that establish procedures and policies ensuring compliance with the RFA. These guidelines ensure that the Department properly considers the potential impacts of rules on small business, small governmental jurisdictions, and small organizations during the rulemaking process. Specifically, the document provides guidance concerning the formulation of the initial regulatory flexibility analysis and final regulatory flexibility analysis, the certification process, and the SBA review process.

On November 13, 2002, the Department submitted a draft of the guidelines to SBA for review and comment. After reviewing the guidelines, SBA requested that the Department make minor editorial revisions and include the Department's procedure for notifying SBA of proposed rules that may have a significant economic impact on a substantial number of small entities. The Department addressed all of SBA's comments. The Department now makes available to the public its guidelines. To obtain a copy of the guidelines, please see the ADDRESSES section of this notice.

Dated: February 13, 2003.
Theodore W. Kassinger,
General Counsel, Department of Commerce.

[FR Doc. 03-4032 Filed 2-19-03; 8:45 am]

BILLING CODE 3510-BW-P